DEPARTMENT OF LABOR

Employee Benefits Security Administration

125th Plenary Meeting; Advisory Council on Employee Welfare and Pension Benefits Plans; Notice of Meeting

Pursuant to the authority contained in section 512 of the Employee Retirement Income Security Act of 1974 (ERISA), 29 U.S.C. 1142, the 125th open meeting of the full Advisory Council on Employee Welfare and Pension Benefit Plans will be held on Tuesday, June 15, 2004.

The meeting will take place in Room S. 2508, U.S. Department of Labor Building, 200 Constitution Avenue, NW, Washington, DC 20210. The purpose of the meeting, which will begin at 1:30 p.m. and end at approximately 4 p.m., is to swear in the new members, introduce the Council Chair and Vice Chair, receive an update from the Assistant Secretary of Labor for the Employee Benefits Security Administration, and determine the topics to be addressed by the Council in 2004.

Organizations or members of the public wishing to submit a written statement may do so by submitting 20 copies on or before June 4, 2004 to Debra Golding at the ERISA Advisory Council, U.S. Department of Labor, Room N-5656, 200 Constitution Avenue, NW, Washington, DC 20210. Statements received on or before June 4, 2004 will be included in the record of the meeting. Individuals or representatives of organizations wishing to address the Advisory Council should forward their request to Debra Golding at the above address or via telephone at (202) 693-8664. Oral presentations will be limited to 10 minutes, but an extended statement may be submitted for the record. Individuals with disabilities who need special accommodations should contact Debra Golding by June 4 at the address indicated in this notice.

Signed at Washington, DC, this 19th day of May, 2004.
Ann L. Combs,
Assistant Secretary, Employee Benefits Security Administration.

[FR Doc. 04-11821 Filed 5-25-04; 8:45 am]

BILLING CODE 4510-29-M